FEDERAL MARITIME COMMISSION

[DOCKET NO. 20-08]

Zero Waste Challenge, LLC, Complainant v. Worldwide Freight Services, Inc. D/B/A United American Line, Respondent; Notice of Filing of Complaint and Assignment

Served: May 13, 2020.

Notice is given that a complaint has been filed with the Federal Maritime Commission (Commission) by Zero Waste Challenge, LLC, hereinafter “Complainant”, against Worldwide Freight Services, Inc. d/b/a United American Line, hereinafter “Respondent”. Complainant states that it is “in the business of shipping used household items from the United States to Pakistan” and its principal place of business is McAllen, Texas. Complainant states that Respondent is an “ocean freight forwarder (“OFF”) and non-vessel-operating common carrier (“NVOCC”) that provides transport, logistics, and related services to customers in the United States.” Complainant states that Respondent is licensed by the Federal Maritime Commission as an OFF and a NVOCC.

Complainant claims that they have had a business relationship with the Respondent to release containers at a destination port in Pakistan for about ten years. Complainant alleges that in April 2020, Respondent “unilaterally revoked earlier credit terms and is presently demanding approximately $400,000.00 in order to release fifty-eight (58) containers (the “Containers”) that [Respondent] has unlawfully held and converted.”

Complainant alleges that Respondent has violated 46 U.S.C. 41102(c) by its “failing to establish and observe just and reasonable practices related to the receiving, handling, and delivering of property” by its “ongoing refusal to release the Containers”, “failure and ongoing refusal to abide by the decision rendered” in a related lawsuit, and “failure and ongoing refusal to release the cargo and artificially increase demurrage charges”. Complainant seeks reparations and other relief.

The full text of the complaint can be found in the Commission's Electronic Reading Room at https://www2.fmc.gov/readingroom/proceeding/20-08/.

This proceeding has been assigned to Office of Administrative Law Judges. The initial decision of the presiding office in this proceeding shall be issued by May 13, 2021, and the final decision of the Commission shall be issued by November 15, 2021.

Rachel Dickon,
Secretary.

[FR Doc. 2020-10767 Filed 5-18-20; 8:45 am]

BILLING CODE 6730-02-P